DEPARTMENT OF JUSTICE

Drug Enforcement Administration

[Docket No. DEA-392]

Manufacturer of Controlled Substances Registration: Cerilliant Corporation

ACTION: Notice of registration.

SUMMARY: Cerilliant Corporation applied to be registered as a manufacturer of certain basic classes of controlled substances. The Drug Enforcement Administration (DEA) grants Cerilliant Corporation registration as a manufacturer of those controlled substances.

SUPPLEMENTARY INFORMATION: By notice dated September 21, 2015, and published in the Federal Register on September 30, 2015, 80 FR 58788, Cerilliant Corporation, 811 Paloma Drive, Suite A, Round Rock, Texas 78665-2402 applied to be registered as a manufacturer of certain basic classes of controlled substances. No comments or objections were submitted for this notice.

The DEA has considered the factors in 21 U.S.C. 823(a) and determined that the registration of Cerilliant Corporation to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above-named company is granted registration as a bulk manufacturer of the following basic classes of controlled substances:

Controlled substance | Schedule
3-Fluoro-N-methylcathinone (3-FMC) (1233) | I
Cathinone (1235) | I
Methcathinone (1237) | I
4-Fluoro-N-methylcathinone (4-FMC) (1238) | I
Pentedrone (a-methylaminovalerophenone) (1246) | I
Mephedrone (4-Methyl-N-methylcathinone) (1248) | I
4-Methyl-N-ethylcathinone (4-MEC) (1249) | I
Naphyrone (1258) | I
N-Ethylamphetamine (1475) | I
N,N-Dimethylamphetamine (1480) | I
Fenethylline (1503) | I
Aminorex (1585) | I
4-Methylaminorex (cis isomer) (1590) | I
Gamma Hydroxybutyric Acid (2010) | I
Methaqualone (2565) | I
JWH-250 (1-Pentyl-3-(2-methoxyphenylacetyl) indole) (6250) | I
SR-18 (Also known as RCS-8) (1-Cyclohexylethyl-3-(2-methoxyphenylacetyl) indole) (7008) | I
5-Flouro-UR-144 and XLR11 [1-(5-Fluoro-pentyl) 1H-indol-3-yl](2,2,3,3-tetramethylcyclopropyl) methanone (7011) | I
AB-FUBINACA (N-(1-amino-3-methyl-1-oxobutan-2-yl)-1-(4-fluorobenzyl)-1H-indazole-3-carboxamide) (7012) | I
JWH-019 (1-Hexyl-3-(1-naphthoyl)indole) (7019) | I
AB-PINACA (N-(1-amino-3-methyl-1-oxobutan-2-yl)-1-pentyl-1H-indazole-3-carboxamide (7023) | I
THJ-2201 [1-(5-fluoropentyl)-1H-indazol-3-yl] (naphthalen-1-yl)methanone (7024) | I
AB-CHMINACA (N-(1-amino-3-methyl-1-oxobutan-2-yl)-1-(cyclohexylmethyl)-1H-indazole-3-carboxamide (7031) | I
ADB-PINACA (N-(1-amino-3,3-dimethyl-1-oxobutan-2-yl)-1-pentyl-1H-indazole-3-carboxamide) (7035) | I
APINACA and AKB48 N-(1-Adamantyl)-1-pentyl-1H-indazole-3-carboxamide (7048) | I
JWH-081 (1-Pentyl-3-(1-(4-methoxynaphthoyl) indole) (7081) | I
SR-19 (Also known as RCS-4) (1-Pentyl-3-[(4-methoxy)-benzoyl] indole (7104) | I
JWH-018 (also known as AM678) (1-Pentyl-3-(1-naphthoyl)indole) (7118) | I
JWH-122 (1-Pentyl-3-(4-methyl-1-naphthoyl) indole) (7122) | I
UR-144 (1-Pentyl-1H-indol-3-yl)(2,2,3,3-tetramethylcyclopropyl)methanone (7144) | I
JWH-073 (1-Butyl-3-(1-naphthoyl)indole) (7173) | I
JWH-200 (1-[2-(4-Morpholinyl)ethyl]-3-(1-naphthoyl) indole) (7200) | I
AM-2201 (1-(5-Fluoropentyl)-3-(1-naphthoyl) indole) (7201) | I
JWH-203 (1-Pentyl-3-(2-chlorophenylacetyl) indole) (7203) | I
PB-22 (Quinolin-8-yl 1-pentyl-1H-indole-3-carboxylate) (7222) | I
5F-PB-22 (Quinolin-8-yl 1-(5-fluoropentyl)-1H-indole-3-carboxylate) (7225) | I
Alpha-ethyltryptamine (7249) | I
CP-47,497 (5-(1,1-Dimethylheptyl)-2-[(1R,3S)-3-hydroxycyclohexyl-phenol) (7297) | I
CP-47,497 C8 Homologue (5-(1,1-Dimethyloctyl)-2-[(1R,3S) 3-hydroxycyclohexyl-phenol) (7298) | I
Lysergic acid diethylamide (7315) | I
2,5-Dimethoxy-4-(n)-propylthiophenethylamine (2C-T-7) (7348) | I
Marihuana (7360) | I
Tetrahydrocannabinols (7370) | I
Parahexyl (7374) | I
Mescaline (7381) | I
2-(4-Ethylthio-2,5-dimethoxyphenyl) ethanamine (2C-T-2) (7385) | I
3,4,5-Trimethoxyamphetamine (7390) | I
4-Bromo-2,5-dimethoxyamphetamine (7391) | I
4-Bromo-2,5-dimethoxyphenethylamine (7392) | I
4-Methyl-2,5-dimethoxyamphetamine (7395) | I
2,5-Dimethoxyamphetamine (7396) | I
JWH-398 (1-Pentyl-3-(4-chloro-1-naphthoyl) indole (7398) | I
2,5-Dimethoxy-4-ethylamphetamine (7399) | I
3,4-Methylenedioxyamphetamine (7400) | I
5-Methoxy-3,4-methylenedioxyamphetamine (7401) | I
N-Hydroxy-3,4-methylenedioxyamphetamine (7402) | I
3,4-Methylenedioxy-N-ethylamphetamine (7404) | I
3,4-Methylenedioxymethamphetamine (7405) | I
4-Methoxyamphetamine (7411) | I
5-Methoxy-N-N-dimethyltryptamine (7431) | I
Alpha-methyltryptamine (7432) | I
Bufotenine (7433) | I
Diethyltryptamine (7434) | I
Dimethyltryptamine (7435) | I
Psilocybin (7437) | I
Psilocyn (7438) | I
5-Methoxy-N,N-diisopropyltryptamine (7439) | I
N-Ethyl-1-phenylcyclohexylamine (7455) | I
1-(1-Phenylcyclohexyl)pyrrolidine (7458) | I
1-[1-(2-Thienyl)cyclohexyl]piperidine (7470) | I
N-Benzylpiperazine (7493) | I
4-Methyl-alphapyrrolidinopropiophenone (4-MePPP) (7498) | I
2-(2,5-Dimethoxy-4-methylphenyl) ethanamine (2C-D) (7508) | I
2-(2,5-Dimethoxy-4-ethylphenyl) ethanamine (2C-E) (7509) | I
2-(2,5-Dimethoxyphenyl) ethanamine (2C-H) (7517) | I
2-(4-lodo-2,5-dimethoxyphenyl) ethanamine (2C-I) (7518) | I
2-(4-Chloro-2,5-dimethoxyphenyl) ethanamine (2C-C) (7519) | I
2-(2,5-Dimethoxy-4-nitro-phenyl) ethanamine (2C-N) (7521) | I
2-(2,5-Dimethoxy-4-(n)-propylphenyl) ethanamine (2C-P) (7524) | I
2-(4-Isopropylthio)-2,5-dimethoxyphenyl) ethanamine (2C-T-4) (7532) | I
MDPV (3,4-Methylenedioxypyrovalerone) (7535) | I
2-(4-bromo-2,5-dimethoxyphenyl)-N-(2-methoxybenzyl) ethanamine (25B-NBOMe) (7536) | I
2-(4-chloro-2,5-dimethoxyphenyl)-N-(2-methoxybenzyl) ethanamine (25C-NBOMe) (7537) | I
2-(4-iodo-2,5-dimethoxyphenyl)-N-(2-methoxybenzyl) ethanamine (25l-NBOMe) (7538) | I
Methylone (3,4-Methylenedioxy-N-methylcathinone) (7540) | I
Butylone (7541) | I
Pentylone (7542) | I
alpha-pyrrolidinopentiophenone (a-PVP) (7545) | I
alpha-pyrrolidinobutiophenone (a-PBP) (7546) | I
AM-694 (1-(5-Fluoropentyl)-3-(2-iodobenzoyl) indole) (7694) | I
Acetyldihydrocodeine (9051) | I
Benzylmorphine (9052) | I
Codeine-N-oxide (9053) | I
Desomorphine (9055) | I
Codeine methylbromide (9070) | I
Dihydromorphine (9145) | I
Heroin (9200) | I
Hydromorphinol (9301) | I
Methyldesorphine (9302) | I
Methyldihydromorphine (9304) | I
Morphine methylbromide (9305) | I
Morphine methylsulfonate (9306) | I
Morphine-N-oxide (9307) | I
Normorphine (9313) | I
Pholcodine (9314) | I
Acetylmethadol (9601) | I
Allylprodine (9602) | I
Alphacetylmethadol except levo-alphacetylmethadol (9603) | I
Alphameprodine (9604) | I
Alphamethadol (9605) | I
Betacetylmethadol (9607) | I
Betameprodine (9608) | I
Betamethadol (9609) | I
Betaprodine (9611) | I
Dipipanone (9622) | I
Hydroxypethidine (9627) | I
Noracymethadol (9633) | I
Norlevorphanol (9634) | I
Normethadone (9635) | I
Trimeperidine (9646) | I
Phenomorphan (9647) | I
1-Methyl-4-phenyl-4-propionoxypiperidine (9661) | I
Tilidine (9750) | I
Para-Fluorofentanyl (9812) | I
3-Methylfentanyl (9813) | I
Alpha-methylfentanyl (9814) | I
Acetyl-alpha-methylfentanyl (9815) | I
Beta-hydroxyfentanyl (9830) | I
Beta-hydroxy-3-methylfentanyl (9831) | I
Alpha-methylthiofentanyl (9832) | I
3-Methylthiofentanyl (9833) | I
Thiofentanyl (9835) | I
Amphetamine (1100) | II
Methamphetamine (1105) | II
Lisdexamfetamine (1205) | II
Phenmetrazine (1631) | II
Methylphenidate (1724) | II
Amobarbital (2125) | II
Pentobarbital (2270) | II
Secobarbital (2315) | II
Glutethimide (2550) | II
Nabilone (7379) | II
1-Phenylcyclohexylamine (7460) | II
Phencyclidine (7471) | II
1-Piperidinocyclohexanecarbonitrile (8603) | II
Alphaprodine (9010) | II
Cocaine (9041) | II
Codeine (9050) | II
Dihydrocodeine (9120) | II
Oxycodone (9143) | II
Hydromorphone (9150) | II
Diphenoxylate (9170) | II
Ecgonine (9180) | II
Ethylmorphine (9190) | II
Hydrocodone (9193) | II
Levomethorphan (9210) | II
Levorphanol (9220) | II
Isomethadone (9226) | II
Meperidine (9230) | II
Meperidine intermediate-A (9232) | II
Meperidine intermediate-B (9233) | II
Meperidine intermediate-C (9234) | II
Metazocine (9240) | II
Methadone (9250) | II
Methadone intermediate (9254) | II
Dextropropoxyphene, bulk (non-dosage forms) (9273) | II
Morphine (9300) | II
Thebaine (9333) | II
Levo-alphacetylmethadol (9648) | II
Oxymorphone (9652) | II
Noroxymorphone (9668) | II
Racemethorphan (9732) | II
Alfentanil (9737) | II
Remifentanil (9739) | II
Sufentanil (9740) | II
Carfentanil (9743) | II
Tapentadol (9780) | II
Fentanyl (9801) | II

The company plans to manufacture small quantities of the listed controlled substances to make reference standards which will be distributed to their customers.

Dated: March 14, 2016.
Louis J. Milione,
Deputy Assistant Administrator.

[FR Doc. 2016-06535 Filed 3-22-16; 8:45 am]

BILLING CODE 4410-09-P